DEPARTMENT OF THE TREASURY

Bureau of Alcohol, Tobacco and Firearms

27 CFR Part 9

[Notice No. 958]

RIN 1512-AC77

Temecula Viticultural Area Name Change (2001R-280P)

AGENCY: Bureau of Alcohol, Tobacco and Firearms (ATF), Treasury.

ACTION: Notice of proposed rulemaking.

SUMMARY: The Bureau of Alcohol, Tobacco and Firearms (ATF) has received a petition proposing to rename the “Temecula” viticultural area as the “Temecula Valley” viticultural area. The size and boundaries of the Temecula viticultural area would remain unchanged.

DATES: Comments must be received by December 20, 2002.

ADDRESSES: Send written comments to: Chief, Regulations Division, Bureau of Alcohol, Tobacco and Firearms, PO Box 50221, Washington, DC 20091-0221 (Attn: Notice No. 958). Copies of the petition, the proposed regulations, and any written comments received will be available for public inspection by appointment at the ATF Reference Library, Room 6480, 650 Massachusetts Avenue, NW., Washington, DC 20226. See the Public Participation section of this notice for alternative means of commenting.

FOR FURTHER INFORMATION CONTACT: Nancy Sutton, Specialist, Regulations Division (San Francisco, California), Bureau of Alcohol, Tobacco and Firearms, 221 Main Street, 11th Floor, San Francisco, CA (415) 947-5192.

SUPPLEMENTARY INFORMATION:

Background on Viticultural Areas

The Federal Alcohol Administration Act (FAA Act) at 27 U.S.C. 205(e) requires that alcohol beverage labels provide the consumer with adequate information regarding a product's identity while prohibiting the use of deceptive information on such labels. The FAA Act also authorizes the Bureau of Alcohol, Tobacco and Firearms (ATF) to issue regulations to carry out the Act's provisions.

Regulations in 27 CFR Part 4, Labeling and Advertising of Wine, allow the establishment of definitive viticultural areas. The regulations allow the name of an approved viticultural area to be used as an appellation of origin on wine labels and in wine advertisements. A list of approved viticultural areas is contained in 27 CFR part 9, American Viticultural Areas.

Section 4.25a(e)(1), title 27, CFR, defines an American viticultural area as a delimited grape-growing region distinguishable by geographic features, the boundaries of which have been delineated in subpart C of part 9.

Section 4.25a(e)(2) outlines the procedure for proposing or amending an American viticultural area. Any interested person may petition ATF to establish a grape-growing region as a viticultural area or modify an existing area. A petition for a new area should include:

(a) Evidence that the name of the proposed viticultural area is locally and/or nationally known as referring to the area specified in the petition;

(b) Historical or current evidence that the boundaries of the viticultural area are as specified in the petition;

(c) Evidence relating to the geographical characteristics (climate, soil, elevation, physical features, etc.) which distinguish the viticultural features of the proposed area from surrounding areas;

(d) A description of the specific boundaries of the viticultural area, based on features which can be found on United States Geological Survey (U.S.G.S.) maps of the largest applicable scale; and

(e) A copy (or copies) of the appropriate U.S.G.S. map(s) with the boundaries prominently marked.

A petition requesting the modification of an established viticultural area should include information, evidence, and maps appropriate to support the requested change(s).

Temecula Viticultural Area

ATF established the Temecula viticultural area (27 CFR 9.50) in Treasury Decision ATF-188, which was published in the Federal Register on October 23, 1984 (See 49 FR 42563). Located in southern California, the 33,000-acre Temecula viticultural area is in southwestern Riverside County in the Temecula Basin. The viticultural area covers the southern portion of the former Vail Ranch, and its outer boundaries generally follow those of the historical Santa Rosa, Temecula, Little Temecula, and Pauba land grants.

Treasury Decision ATF-188 stated that the name “Temecula” was derived from the Luiseno Indian word “Temeku,” which means “a place where the sun breaks through the white mist.” The original Temecula petition stated that this description applied to the entire viticultural area, which is in a valley characterized by bright sun and misty marine air that flows inland from the Pacific Ocean. The 1984 decision noted that it is this marine air, which enters the Temecula Valley through gaps in the Santa Ana Mountains, that allows grape growing in this area.

Temecula Valley Petition

The Temecula Valley Winegrowers Association has submitted a petition to ATF requesting that the Temecula viticultural area's name be changed to “Temecula Valley.” The petitioners believe this name change will provide a more accurate description of the Temecula area's geography and provide greater clarity as to the area's location for wine consumers and the public. This proposed name change does not affect the boundaries of the established Temecula viticultural area.

When the Temecula viticultural area was originally petitioned twenty years ago, the Association's petition states, the area was largely rural and agricultural. The small, unincorporated village of Temecula was located near the middle of the area's southern boundary. This village is now an incorporated city, larger in size, with a growing population. According to the petitioners, the city of Temecula's growth has accentuated the differences between the city and the surrounding agricultural region known as the Temecula Valley.

The current petition states that when the Temecula viticultural area was petitioned 20 years ago, the terms “Temecula” and “Temecula Valley” were used interchangeably. The petition cites evidence from Tom Hudson's book “A Thousand Years in the Temecula Valley” (Temecula Valley Chamber of Commerce, 1981), including its many uses of the term “Temecula Valley,” in support of this position. The original Temecula petition and the 1984 Treasury Decision also cited this work. The current petition also cites the local telephone directory, which shows that numerous businesses and agencies use the name “Temecula Valley” in conjunction with their operating name. The 1984 Treasury Decision additionally noted the planned establishment of the new Temecula Valley High School within the viticultural area's boundaries.

The Temecula Valley Winegrowers Association petition also comments on the importance of the word “valley” in relation to the Temecula area by noting that the Association itself is a merger of the Temecula Valley Vintners Association and the Temecula Winegrape Growers Association. In addition, the petition cites the use of “Napa” and “Napa Valley” as an example of how the differences between a city (Napa) and the surrounding agricultural area (Napa Valley) are recognized in a viticultural area name. The petition states, “To continue to mandate the term “Temecula” is to honor a loose and ill-defined use of the term.”

The current petition also cited a letter from Mr. Gary McMillan, one of the original Temecula viticultural area petitioners, supporting the name change. Mr. McMillan sent his letter directly to ATF, and a copy of was included with the Association's petition. According to his letter, Mr. McMillan recalls that the original Temecula petitioners desired to use a true, historical name for their proposed viticultural area and not the more recent commercial name of “Rancho California,” which was originally favored by some growers in the area. In his letter, Mr. McMillan agrees with the Association's contention that the names Temecula and Temecula Valley were often used interchangeably at the time of the original petition.

Public Participation

Comments Sought

ATF requests comments from all interested persons. Comments received on or before the closing date will be carefully considered. Comments received after that date will be given the same consideration if it is practical to do so. However, assurance of consideration can only be given to comments received on or before the closing date.

ATF will not recognize any submitted material as confidential and comments may be disclosed to the public. Any material which the commenter considers to be confidential or inappropriate for disclosure to the public should not be included in the comments. The name of the person submitting a comment is not exempt from disclosure.

Submitting Comments

By U.S. Mail: Written comments may be mailed to ATF at the address listed in the ADDRESSES section above.

By Fax: Comments may be submitted by facsimile transmission to (202) 927-8525, provided the comments: (1) Are legible; (2) are 8½″ x 11″ in size; (3) contain a written signature; and (4) are five pages or less in length. This limitation is necessary to assure reasonable access to the equipment. Comments sent by fax in excess of five pages will not be accepted. Receipt of fax transmittals will not be acknowledged. Facsimile transmitted comments will be treated as originals.

By E-mail: Comments may be submitted by e-mail to nprm@atfhq/treas.gov. E-mail comments must: (1) Contain your name, mailing address, and e-mail address; (2) reference this notice number; and (3) be legible when printed on 8½ x 11 inch size paper. We will not acknowledge the receipt of e-mail. We will treat comments submitted by e-mail as originals.

Comments may also be submitted using the comment form provided with the online copy of this proposed rule on the ATF Internet Web site at http://www.atf.treas.gov/alcohol/rules/index.htm.

Public Hearing: Any person who desires an opportunity to comment orally at a public hearing on the proposed regulation should submit his or her request, in writing, to the Director within the 60-day comment period. The Director, however, reserves the right to determine, in light of all circumstances, whether a public hearing will be held.

Reviewing Comments

You may view copies of the full comments in response to this notice of proposed rulemaking by appointment at the ATF Reference Library, Room 6480, 650 Massachusetts Avenue, NW., Washington, DC 20226, telephone 202-927-7890. You may request paper copies of the full comments (at 20 cents per page) by writing to the ATF Reference Librarian at the address shown above.

For the convenience of the public, ATF will post copies of the comments received in response to this notice on the ATF web site. All comments posted on our web site will show the name of the commenter, but will have street addresses, telephone numbers, and e-mail addresses removed. We may also omit voluminous attachments or material that we do not consider suitable for posting. In all cases, the full comment will be available in the ATF library as noted above. To access online copies of the comments on this rulemaking, visit http://www.atf.treas.gov/, and select “Regulations,” then “Notices of Proposed Rulemaking (Alcohol),” and then this notice. Then click on the “view comments” link.

Paperwork Reduction Act

The provisions of the Paperwork Reduction Act of 1995, 44 U.S.C. chapter 35, and its implementing regulations, 5 CFR part 1320, do not apply to this notice because no requirement to collect information is proposed.

Regulatory Flexibility Act

It is hereby certified that this proposed regulation will not have a significant impact on a substantial number of small entities. The establishment of a viticultural area is neither an endorsement nor approval by ATF of the quality of wine produced in the area, but rather an identification of an area that is distinct from surrounding areas. ATF believes that the establishment of viticultural areas merely allows wineries to more accurately describe the origin of their wines to consumers, and helps consumers identify the wines they purchase. Thus, any benefit derived from the use of a viticultural area name is the result of the proprietor's own efforts and consumer acceptance of wines from that area.

No new requirements are proposed. Accordingly, a regulatory flexibility analysis is not required.

Executive Order 12866

ATF has been determined that this proposed regulation is not a significant regulatory action as defined by Executive Order 12866. Accordingly, this proposal is not subject to the analysis required by this Executive Order.

Drafting Information

The principal author of this document is N. A. Sutton, Regulations Division (San Francisco), Bureau of Alcohol, Tobacco and Firearms.

List of Subjects in 27 CFR Part 9

Wine.

Authority and Issuance

Title 27, Code of Federal Regulations, Part 9, American Viticultural Areas, is proposed to be amended as follows:

PART 9—AMERICAN VITICULTURAL AREAS

Paragraph 1. The authority citation for part 9 continues to read as follows:

Authority: 27 U.S.C. 205.

Subpart C—Approved American Viticultural Areas

Par. 2. Section 9.50 is amended by revising paragraph (a) and the introductory text of paragraphs (b) and (c) to read as follows:

§ 9.50 Temecula Valley.

(a) Name. The name of the viticultural area described in this section is “Temecula Valley.”

(b) Approved map. The approved maps for determining the boundary of the Temecula Valley viticultural area are seven U.S.G.S. quadrangle maps in the 7.5 minute series, as follows:

* * * * *

(c) Boundary. The Temecula Valley viticultural area is located in Riverside County, California. The boundary is as follows:

* * * * *

Signed: September 26, 2002.
Bradley A. Buckles,
Director.

[FR Doc. 02-26677 Filed 10-18-02; 8:45 am]

BILLING CODE 4810-31-P